DEPARTMENT OF THE TREASURY

Office of Foreign Assets Control

Sanctions Actions Pursuant to Executive Orders 13382, 13573, and 13582

AGENCY: Office of Foreign Assets Control, Treasury.

ACTION: Notice.

SUMMARY: The Treasury Department's Office of Foreign Assets Control (OFAC) is publishing the names of five persons whose property and interests in property are blocked pursuant to one or more of the following authorities: Executive Order (E.O.) 13382, E.O. 13573, and E.O. 13582.

DATES: OFAC's actions described in this notice were effective on March 31, 2015, as further specified below.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.: 202/622-0077.

Notice of OFAC Actions

On March 31, 2015, OFAC blocked the property and interests in property of the following three persons pursuant to E.O. 13382, “Blocking Property of Weapons of Mass Destruction Proliferators and Their Supporters”:

Entities:

1. DENISE COMPANY, Tayyouneh-Bdeir Building, 2nd Floor, Beirut, Lebanon [NPWMD].

2. SHADI FOR CARS TRADING, Tayyouneh-Bdeir Building, 2nd Floor, Beirut, Lebanon [NPWMD].

3. SIGMA TECH COMPANY, Fayez Mansour Street, Bldg No/35/-Floor No/2/Baramkeh, P.O. Box 34081, Damascus, Syria [NPWMD].

On March 31, 2015, OFAC blocked the property and interests in property of the following person pursuant to E.O. 13582, “Blocking Property of the Government of Syria and Prohibiting Certain Transactions with Respect to Syria”:

Individual:

1. RIDA, Batoul; DOB 01 Jun 1982; citizen Syria (individual) [SYRIA].

On March 31, 2015, OFAC published the following revised information for the following person on OFAC's SDN List whose property and interests in property are blocked pursuant to E.O. 13573, “Blocking Property of Senior Officials of The Government of Syria”:

Individual:

1. MAYALEH, Adib (a.k.a. ANDRE, Miyal; a.k.a. MAYALA, Adib; a.k.a. MAYARD, Andre); DOB 1955; POB Daraa, Syria; Governor of Central Bank of Syria (individual) [SYRIA].

Dated: March 31, 2015.
John E. Smith,
Acting Director, Office of Foreign Assets Control.

[FR Doc. 2015-08506 Filed 4-13-15; 8:45 am]

BILLING CODE 4810-ALP